DEPARTMENT OF COMMERCE

National Oceanic and Atmospheric Administration

[I.D. 042604G]

North Pacific Fishery Management Council; Public Meeting

AGENCY: National Marine Fisheries Service (NMFS), National Oceanic and Atmospheric Administration (NOAA), Commerce.

ACTION: Notice of a public meeting.

SUMMARY: The North Pacific Fishery Management Council's (Council) Improved Retention/Improved Utilization Subcommittee will meet in Seattle, WA.

DATES: The meeting will be held on Monday, May 17, 2004, from 9 a.m. to 5 p.m. and Tuesday, May 18, 2004, from 9 a.m. to noon.

ADDRESSES: The meeting will be held at the Alaska Fisheries Science Center, 7600 Sand Point Way NE, Building 1, Human Resource Conference Room, Seattle, WA 98115.

Council address: North Pacific Fishery Management Council, 605 W. 4th Ave., Suite 306, Anchorage, AK 99501-2252.

FOR FURTHER INFORMATION CONTACT: Council staff, Jon McCracken; telephone: 907-271-2809.

SUPPLEMENTARY INFORMATION: The Committee is scheduled to discuss: (1) Further refine the underutilized species threshold component in Amendment 80a (Component 10); (2) The Committee may also address any other issues that they deem necessary.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen at 907-271-2809 at least 7 working days prior to the meeting date.

Dated: April 26, 2004.
Bruce C. Morehead,
Acting Director, Office of Sustainable Fisheries, National Marine Fisheries Service.

[FR Doc. 04-9859 Filed 4-29-04; 8:45 am]

BILLING CODE 3510-22-S